DEPARTMENT OF HEALTH AND HUMAN SERVICES

Centers for Disease Control and Prevention

Update of A Public Health Action Plan To Combat Antimicrobial Resistance

The Centers for Disease Control and Prevention (CDC), Food and Drug Administration (FDA), and National Institutes of Health (NIH) announce an open meeting concerning antimicrobial resistance.

Name: Update of A Public Health Action Plan To Combat Antimicrobial Resistance.

Times and Dates: 8:30 a.m.-6 p.m., December 12, 2007; 8 a.m.-3 p.m., December 13, 2007.

Place: Grand Hyatt Atlanta in Buckhead, 3300 Peachtree Road, Atlanta, Georgia, USA 30305. Tel: +1 404/237-1234, Fax: +1 404/233-5686.

Status: Open to the public, limited only by the space available.

Purpose: To solicit input from invited consultants to update A Public Health Action Plan To Combat Antimicrobial Resistance that, when published in 2001, provided a blueprint for activities of Federal agencies to combat antimicrobial resistance. The Plan was developed by consultants from multi-disciplines and the Antimicrobial Resistance Task Force, composed of Federal personnel from ten Federal agencies and departments, co-chaired by CDC, FDA, and NIH. The revised Plan will not be limited to domestic activities.

Matters To Be Discussed: The agenda will focus on updates and revisions of existing action items or the addition of new items to the Plan. Action items in A Public Health Action Plan To Combat Antimicrobial Resistance are presented in four major topics:

1. Surveillance.

2. Prevention and Control.

3. Research.

4. Product Development.

Comments and suggestions from the consultants for updates of specific action items in the Action Plan or addition of new action items in these topics will be taken under advisement by the Task Force. The Task Force may also utilize other sources of information in updating the Action Plan. The agenda does not include development of consensus positions, guidelines, or discussions or endorsements of specific commercial products. Agenda items are subject to change as priorities dictate. Limited time will be available for oral comments and suggestions from the public. Written comments and suggestions from the public are encouraged and should be received by the contact person listed below by December 3, 2007.

Persons anticipating attending the meeting are requested to send written notification by December 3, 2007, including name, organization (if applicable), address, phone, fax, and email addresses to the contact below.

For Further Information Contact: Gregory J. Anderson, Centers for Disease Control and Prevention (CDC), Office of Antimicrobial Resistance, Mailstop A-07, 1600 Clifton Road, NE., Atlanta, Georgia 30333. Telephone +1 404/639-3539, fax +1 404/639-7444, e-mail: gca5@cdc.gov.

Dated: October 4, 2007.
James D. Seligman,
Chief Information Officer, Centers for Disease Control and Prevention.

[FR Doc. E7-20125 Filed 10-11-07; 8:45 am]

BILLING CODE 4163-18-P